DEPARTMENT OF COMMERCE

National Oceanic and Atmospheric Administration

[RTID 0648-XB363]

Marine Mammals; File No. 25740

AGENCY: National Marine Fisheries Service (NMFS), National Oceanic and Atmospheric Administration (NOAA), Commerce.

ACTION: Notice; receipt of application.

SUMMARY: Notice is hereby given that the Center for Coastal Studies, 5 Holway Avenue, P.O. Box 1036, Provincetown, MA 02657 (Responsible Party: Richard Delaney), has applied in due form for a permit to conduct research on 23 species of marine mammals.

DATES: Written, telefaxed, or email comments must be received on or before September 24, 2021.

ADDRESSES: The application and related documents are available for review by selecting “Records Open for Public Comment” from the “Features” box on the Applications and Permits for Protected Species (APPS) home page, https://apps.nmfs.noaa.gov, and then selecting File No. 25740 from the list of available applications. These documents are also available upon written request via email to NMFS.Pr1Comments@noaa.gov.

Written comments on this application should be submitted via email to NMFS.Pr1Comments@noaa.gov. Please include File No. 25740 in the subject line of the email comment.

Those individuals requesting a public hearing should submit a written request via email to NMFS.Pr1Comments@noaa.gov. The request should set forth the specific reasons why a hearing on this application would be appropriate.

FOR FURTHER INFORMATION CONTACT: Shasta McClenahan, Ph.D., or Amy Hapeman, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant proposes to conduct research on North Atlantic right whales (Eubalaena glacialis; NARW) in U.S. and international waters of the North Atlantic Ocean. The objectives of the research are to collect data to inform the development and implementation of methods to mitigate the threat of entanglement, ship strike, and habitat degradation, and to collect basic data on NARW and their ecology. Four species of non-listed pinnipeds and 18 species of cetaceans may be unintentionally harassed and opportunistically studied during NARW research activities including endangered blue whales (Balaenoptera musculus); bowhead whales (Balaena mysticetus); fin whales (B. physalus); sei whales (B. borealis); and sperm whales (Physeter microcephalus). Marine mammals may be taken during vessel and aerial surveys, including an unmanned aircraft system, for counts, photo-identification, photography, videography, behavioral observations, collection of sloughed skin or feces, underwater photography, and zooplankton sampling. See the application for complete numbers of animals requested by species, life stage, and procedure. The permit is requested for 5 years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: August 19, 2021.
Julia Marie Harrison,
Chief, Permits and Conservation Division, Office of Protected Resources, National Marine Fisheries Service.

[FR Doc. 2021-18274 Filed 8-24-21; 8:45 am]

BILLING CODE 3510-22-P